DEPARTMENT OF AGRICULTURE

Commodity Credit Corporation

Amended Notice of Intent To Prepare an Environmental Impact Statement for the Biomass Crop Assistance Program

AGENCY: Commodity Credit Corporation, USDA.

ACTION: Notice and request for comments.

SUMMARY: The Commodity Credit Corporation (CCC) intends to prepare an Environmental Impact Statement (EIS) for the Biomass Crop Assistance Program (BCAP). BCAP is a new program authorized by the Food, Conservation, and Energy Act of 2008 (the 2008 Farm Bill). The EIS will assess the potential environmental impacts of alternatives for administration and implementation of BCAP. Through this notice and public meetings, CCC is requesting the public to provide comments and inputs on the preliminary proposed program alternatives and environmental concerns associated with the implementation of BCAP.

DATES: See the SUPPLEMENTARY INFORMATION section for dates of the six public meetings.

Comments: We will consider comments that we receive by June 12, 2009. We will consider comments submitted after that date, to the extent possible.

ADDRESSES: We invite you to submit comments and to participate in public meetings on the proposed alternatives related to BCAP. If you e-mail, fax, or mail your comments, include the volume, date, and page number of this issue of the Federal Register. You may submit comments by any of the following methods:

• Go through the established public comments Web site located at http://public.geo-marine.com.

• E-Mail: bcapeis@geo-marine.com.

• Fax: (757) 873-3703.

• Mail: BCAP EIS c/o Geo-Marine, Inc., 2713 Magruder Boulevard, Suite D, Hampton, Virginia 23666.

• Hand Delivery or Courier: Deliver comments to the above address.

• Federal eRulemaking Portal: Go to http://www.regulations.gov. Follow the online instructions for submitting comments.

Comments may be inspected in the Office of the Director, CEPD, FSA, USDA, 1400 Independence Ave., SW., Room 4709 South Building, Washington, DC, between 8 a.m. and 4:30 p.m., Monday through Friday, except holidays.

See the SUPPLEMENTARY INFORMATION section for addresses for the six public meetings.

FOR FURTHER INFORMATION CONTACT: Matthew T. Ponish, FSA National Environmental Compliance Manager at (202) 720-6853 or matthew.ponish@wdc.usda.gov. Persons with disabilities who require alternative means for communication (Braille, large print, audio tape, etc.) should contact the USDA Target Center at (202) 720-2600 (voice and TDD).

SUPPLEMENTARY INFORMATION: BCAP is authorized by Title IX of the 2008 Farm Bill (Pub. L. 110-246). The 2008 Farm Bill amends Title IX of the Farm Security and Rural Investment Act of 2002 (Pub. L. 107-171); specifically, for BCAP, the 2008 Farm Bill adds section 9011 (7 U.S.C. 8111) to Title IX. BCAP is intended to support the establishment and production of crops for conversion to bio-energy in project areas (locations) and to assist with collection, harvest, storage, and transportation of eligible material for use in a biomass conversion facility.

As a new energy program, BCAP presents an opportunity to encourage landowners and operators to produce biomass for commercial energy production in ways that both are economically and environmentally sound. CCC plans to implement BCAP by approving the best-qualifying project proposals from project sponsors (producers or facilities) and then entering into contracts with individual producers in the approved project locations. BCAP is a CCC program administered by the Farm Service Agency (FSA) with the support of other Federal and local agencies.

Under the National Environmental Policy Act (NEPA), the EIS process provides a means for the public to provide input on program implementation alternatives and on environmental concerns. This notice informs the public of CCC's intention to prepare an EIS for BCAP. CCC initially solicited public input and comments on the proposed EIS for BCAP from the notice published in the Federal Register on October 1, 2008 (72 FR 5704-57047).

When we received comments and inputs from the public and through internal agency scoping, CCC developed the following alternatives for the BCAP analysis to be considered as part of the regulatory requirements under NEPA process:

(1) No Action Alternative—addresses the potential effects from not implementing BCAP.

(2) Action Alternative 1—addresses a targeted implementation of BCAP to specific areas or regions of the United States.

(3) Action Alternative 2—addresses a broad national implementation of BCAP.

The public meetings will be scoping meetings and will provide public input for the development of the alternatives.

Date | Time | Location information
May 28, 2009 | 6:30 p.m. to 8:30 p.m. local time | Red Lion Hotel, 2300 Evergreen Park Drive, Olympia, Washington 98501, Ph: 360-252-0972, Fax: 360-753-9651.
June 2, 2009 | 6:30 p.m. to 8:30 p.m. local time | Hilton Garden Inn, 9000 Interstate 40 West, Amarillo, Texas 79124, Ph: 806-355-4400, Fax: 806-355-4411.
June 4, 2009 | 6:30 p.m. to 8:30 p.m. local time | Alexander Fulton Hotel & Convention Center, 701 4th Street, Alexandria, Louisiana 71301, Ph 318-442-9000.
June 8, 2009 | 6:30 p.m. to 8:30 p.m. local time | Renaissance Savery Hotel, 401 Locust Street, Des Moines, Iowa 50309, Ph: 515-365-7232, Fax: 515-244-1228.
June 10, 2009 | 6:30 p.m. to 8:30 p.m. local time | Hilton Garden Inn, 101 S. Front Street, Albany, Georgia 31701, Phone: 229-518-5003, Fax: 229-878-4862.
June 11, 2009 | 6:30 p.m. to 8:30 p.m. local time | Hilton Garden Inn Syracuse, 6004 Fair Lakes Road, Syracuse, New York 13057, Ph: 315-431-4800, Fax: 315-431-4999.

Signed in Washington, DC on May 7, 2009.
Doug Caruso,
Executive Vice President, Commodity Credit Corporation.

[FR Doc. E9-11094 Filed 5-12-09; 8:45 am]

BILLING CODE 3410-05-P